NUCLEAR REGULATORY COMMISSION

[Docket No.: 40-8027]

Notice of Availability of the Environmental Impact Statement for the Reclamation of Sequoyah Fuels Corporation Site in Gore, Oklahoma, NUREG-1888

AGENCY: U.S. Nuclear Regulatory Commission.

ACTION: Notice of availability of Final Environmental Impact Statement.

FOR FURTHER INFORMATION CONTACT: Allen Fetter, Project Manager, Office of Federal and State Materials and Environmental Management Programs, U.S. Nuclear Regulatory Commission, Washington, DC 20555. Telephone: (301) 415-8556; e-mail: allen.fetter@nrc.gov.

SUMMARY: Notice is hereby given that the U.S. Nuclear Regulatory Commission (NRC) is issuing a Final Environmental Impact Statement (EIS) for the Sequoyah Fuels Corporation (SFC) license amendment application, dated January 28, 2003, and subsequently revised by letters dated February 27, 2004, and July 30, 2004, for the surface reclamation of SFC's former uranium conversion site near Gore, Oklahoma. The Final EIS also addresses the SFC license amendment application dated June 12, 2003, for groundwater corrective actions at the SFC site.

The Final EIS discusses the purpose and need for SFC's proposed surface reclamation activities and groundwater corrective actions and reasonable alternatives to the proposed action, including the no-action alternative. The Final EIS also discusses the environment potentially affected by the SFC proposal, presents and compares the potential environmental impacts resulting from the proposed action and its alternatives, and identifies mitigation measures that could eliminate or lessen the potential environmental impacts.

Based on the final evaluation in the Final EIS, the NRC environmental review staff has concluded that the proposed action would have small effects on the physical environment and human communities with the exception of land use, for which the impact would be moderate. This Final EIS reflects the final analysis of environmental impacts of the proposed actions and its alternatives, including the consideration of public comments received by the NRC.

ADDRESSES: The NRC maintains an Agencywide Documents Access and Management System (ADAMS), which provides text and image files of NRC's public documents. The Final EIS and its appendices may be accessed through the NRC's Public Electronic Reading Room on the Internet at http://www.nrc.gov/reading-rm/adams.html, using the Agencywide Documents Access and Management System (ADAMS) accession number ML081300103 for the Final EIS. If you do not have access to ADAMS or if there are problems in accessing the documents located in ADAMS, contact the NRC Public Document Room Reference staff at 1 (800) 397-4209, (301) 415-4737 or by e-mail to pdr.resource@nrc.gov.

The Final EIS is also available for inspection at the Commission's Public Document Room, U.S. NRC's Headquarters Building, 11555 Rockville Pike (first floor), Rockville, Maryland. Upon written request and to the extent supplies are available, a single copy of the Final EIS can be obtained for a fee by writing to the Office of the Chief Information Officer, Reproduction and Distribution Services Section, U.S. Nuclear Regulatory Commission, Washington, DC 20555-0001; by electronic mail at Distribution.Resource@nrc.gov; or by fax at (301) 415-2289.

SUPPLEMENTARY INFORMATION: The NRC staff has prepared this Final EIS in response to two license amendment requests submitted by SFC for the surface reclamation and groundwater restoration at SFC's former uranium conversion site near Gore, Oklahoma. The Final EIS was prepared by the staff of the NRC and its contractor, Ecology & Environment, Inc., in compliance with the National Environmental Policy Act (NEPA) and the NRC's regulations for implementing NEPA (10 CFR Part 51).

The NRC staff published a Notice of Intent to prepare an EIS for the Sequoyah Fuels Corporation Site and to conduct a scoping process, in the Federal Register on October 20, 1995 (60 FR 54260). The public scoping meeting was held in Gore, Oklahoma on November 15, 1995. Following the NRC's 2002 reclassification of waste at the SFC site as 11e.(2) byproduct material and transfer of the NRC regulatory oversight to Appendix A of Part 40, NRC held a rescoping meeting on May 13, 2003 (68 FR 20033). The Rescoping Summary Report was issued in November 2003 (ADAMS Accession No.: ML033170349). The NRC staff prepared and issued a Draft EIS in September 2007; notice of the availability of the Draft EIS appeared in the Federal Register on September 21, 2007 (72 FR 54080). Public comments on the Draft EIS were accepted by the NRC staff until November 5, 2007. The NRC staff's responses to these comments and copies of the submitted comments are provided in appendices to the Final EIS.

The Final EIS describes the proposed action and reasonable alternatives to the proposed action, including the no-action alternative, and describes the proposed mitigation measures. The NRC staff assesses the impacts of the proposed action and it's alternative on public and occupational health, air quality, water resources, waste management, geology and soils, noise, ecology resources, land use, transportation, historical and cultural resources, visual and scenic resources, socioeconomics, accidents and environmental justice. Additionally, the Final EIS analyzes and compares the costs and benefits of the proposed action.

After weighing the impacts, costs, and benefits of the proposed action and comparing alternatives, the NRC staff, in accordance with 10 CFR 51.91(d), sets forth its final NEPA recommendation regarding the proposed action. The NRC staff recommends that the proposed action be approved, unless safety issues mandate otherwise.

Dated at Rockville, Maryland, this 21st day of May, 2008.
For the U.S. Nuclear Regulatory Commission.
Scott C. Flanders,
Deputy Director, Environmental Protection and Performance Assessment Directorate, Division of Waste Management and Environmental Protection, Office of Federal and State Materials and Environmental Management Programs.

[FR Doc. E8-11869 Filed 5-27-08; 8:45 am]

BILLING CODE 7590-01-P